DEPARTMENT OF COMMERCE

Membership of the Performance Review Board for Economic Development Administration (EDA), National Telecommunications and Information Administration (NTIA), Bureau of Industry and Security (BIS), and Minority Business Development Agency (MBDA)

AGENCY: EDA, NTIA, BIS, MBDA, Department of Commerce.

ACTION: Notice of membership.

SUMMARY: The EDA, NTIA, BIS and MBDA, Department of Commerce (DOC), announce the appointment of those individuals who have been selected to serve as members of the Performance Review Board. The Performance Review Board is responsible for reviewing performance appraisals and ratings of Senior Executive Service (SES) members and Senior Level (SL) members and making recommendations to the appointing authority on other performance management issues, such as pay adjustments, bonuses and Presidential Rank Awards for SES and SL members. The appointment of these members to the Performance Review Board will be for a period of twenty-four (24) months.

DATES: The period of appointment for those individuals selected for EDA, NTIA, BIS and MBDA's Performance Review Board begins on November 3, 2020.

FOR FURTHER INFORMATION CONTACT: Joan Nagielski, U.S. Department of Commerce, Office of Human Resources Management, Department of Commerce Human Capital Client Services, Office of Employment and Compensation, 14th and Constitution Avenue NW, Room 50013, Washington, DC 20230, at (202) 482-6342.

SUPPLEMENTARY INFORMATION: In accordance with 5 U.S.C. 4314(c)(4), the EDA, NTIA, BIS and MBDA, Department of Commerce (DOC), announce the appointment of those individuals who have been selected to serve as members of EDA, NTIA, BIS and MBDA's Performance Review Board. The Performance Review Board is responsible for (1) reviewing performance appraisals and ratings of Senior Executive Service (SES) and Senior Level (SL) members and (2) making recommendations to the appointing authority on other Performance management issues, such as pay adjustments, bonuses and Presidential Rank Awards for SES and SL members. The Appointment of these members to the Performance Review Board will be for a period of twenty-four (24) months. The name, position title, and type of appointment of each member of the Performance Review Board are set forth below:

1. Department of Commerce, Bureau of Industry and Security (BIS), Alexander Lopes, Jr., Director, Office of Non Proliferation and Treaty Compliance, Career SES

2. Department of Commerce, National Telecommunications and Information Administration (NTIA), Peter Tenhula, Deputy Associate Administrator for Spectrum Planning and Policy, Career SES

3. Department of Commerce, Economic Development Agency (EDA), Angela Martinez, Regional Director for Denver Office, Career SES

4. Department of Commerce, National Telecommunications and Information Administration (NTIA), Lisa Casias, Deputy Executive Director, First Responder Network Authority, Career SES

5. Department of Commerce, National Telecommunications and Information Administration (NTIA), Kathy Smith, Chief Counsel, Career SES

6. Department of Commerce, Economic Development Agency (EDA), H. Phillip Paradice, Regional Director, Atlanta Regional Office, Career SES

7. Department of Commerce, Office of the Secretary, Enterprise Services, Kurt Bersani, Chief Financial Officer and Director of Administration, Career SES

8. Department of Commerce, National Telecommunications and Information Administration (NTIA), Jeffrey Bratcher, Chief Technology Officer, First Responder Network, NTIA, Career SES

Dated: October 28, 2020.
Joan Nagielski,
Human Resources Specialist, Office of Employment and Compensation, Department of Commerce Human Capital Client Services, Office of Human Resources Management, Office of the Secretary, Department of Commerce.

[FR Doc. 2020-24284 Filed 11-2-20; 8:45 am]

BILLING CODE 3510-25-P